DEPARTMENT OF ENERGY

International Energy Agency Meetings

AGENCY: Department of Energy.

ACTION: Notice of meetings.

SUMMARY: The Industry Advisory Board (IAB) to the International Energy Agency (IEA) will meet on June 21-22, 2022, as a hybrid meeting via webinar and in person, in connection with a joint meeting of the IEA's Standing Group on Emergency Questions (SEQ) and the IEA's Standing Group on the Oil Market (SOM) which is scheduled at the same time via webinar.

DATES: June 21-22, 2022.

ADDRESSES: The location details of the SEQ and SOM webinar meeting are under the control of the IEA Secretariat, located at 9 rue de la Fédération, 75015 Paris, France. The in person meeting will take place at IEA Headquarters, 9 rue de la Fédération, 75015 Paris, France.

FOR FURTHER INFORMATION CONTACT: Mr. Thomas Reilly, Assistant General Counsel for International and National Security Programs, Department of Energy, 1000 Independence Avenue SW, Washington, DC 20585, (202) 586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held as a hybrid meeting via webinar and in person at the IEA Headquarters, 9 rue de la Fédération, 75015 Paris, commencing at 9:30 a.m., Central European Summer Time (CEST), on June 21, 2022. The purpose of this notice is to permit attendance by representatives of U.S. company members of the IAB at a joint meeting of the IEA's Standing Group on Emergency Questions (SEQ) and the IEA's Standing Group on the Oil Market (SOM), which is scheduled to be held at the same location and via webinar at the same time.

The location details of the SEQ and SOM webinar meeting are under the control of the IEA Secretariat, located at 9 rue de la Fédération, 75015 Paris, France. The agenda of the meeting is under the control of the SEQ and the SOM. It is expected that the SEQ and the SOM will adopt the following agenda:

1. Welcome by the Chair

2. New delegates to introduce themselves

3. Adoption of the Agenda

4. Approval of Summary Record of meeting of 16 March 2022

5. Reports on Recent Oil Market and Policy Developments in IEA Countries

6. Update on sanctions on Russia

7. Update on the Current Oil Market Situation

8. Implications of an EU embargo on Russian crude and oil product markets

9. Aviation and jet fuel update

10. Gas market update

11. World Energy Investment

12. Electric Vehicles Update

13. Any other business: Date of next SEQ/SOM meetings: 15-17 November 2022

A meeting of the Industry Advisory Board (IAB) to the International Energy Agency (IEA) will be held as a hybrid meeting via webinar and in person at the IEA Headquarters, 9 rue de la Fédération, 75015 Paris, commencing at 9:30 a.m., Central European Summer Time (CEST), on June 22, 2022. The purpose of this notice is to permit attendance by representatives of U.S. company members of the IAB at a meeting of the IEA's Standing Group on Emergency Questions (SEQ), which is scheduled to be held at the same location and via webinar at the same time. The IAB will also hold a preparatory meeting among company representatives at the same location at 08:30 a.m. CEST on June 21, 2022. The agenda for this preparatory meeting is to review the agenda for the SEQ meeting.

The location details of the SEQ meeting are under the control of the IEA Secretariat, located at 9 rue de la Fédération, 75015 Paris, France. The agenda of the SEQ meeting is under the control of the SEQ. It is expected that the SEQ will adopt the following agenda:

1. Adoption of the Agenda

2. Approval of the Summary Records of the 168th and 169th SEQ meetings

3. Stockholding levels of IEA Member Countries

4. IEA oil stockholding releases 2022

5. QuE reporting

6. Russia's invasion of Ukraine: impact on fuel security

7. Ministerial Mandate on oil stockholding

8. Mid-term review Luxembourg

9. Emergency Response Review of Norway

10. Industry Advisory Board Update

11. Oral Reports by Administrations

12. Emergency Response Review of Italy

13. Update on Accession process of Colombia

14. Any Other Business

Schedule of ERRs for 2022/2023

Schedule of SEQ & SOM Meetings for 2022/23:

—15-17 November 2022

—14-16 March 2023 (tentative)

—13-15 June 2023 (tentative)

—14-16 November 2023 (tentative)

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on June 7, 2022, by Thomas Reilly, Assistant General Counsel for International and National Security Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, June 8, 2022.
Treena V. Garrett,
Federal Register Liaison Officer, U.S. Department of Energy.

[FR Doc. 2022-12657 Filed 6-10-22; 8:45 am]

BILLING CODE 6450-01-P